DEPARTMENT OF ENERGY

Federal Energy Regulatory Commission

[Project No. 13512-000]

Port Frederick Tidal Power Project; Notice of Preliminary Permit Application Accepted for Filing and Soliciting Comments, Motions To Intervene, and Competing Applications

September 4, 2009.

On August 7, 2009, Alaska Power & Telephone Company filed an application for a preliminary permit, pursuant to section 4(f) of the Federal Power Act, proposing to study the feasibility of the Port Frederick Tidal Power Project (Port Frederick Project or project), which would be located on South Bight and North Bight (bays) in Port Frederick, an inlet off Icy Strait near Hoonah, Alaska. The sole purpose of a preliminary permit, if issued, is to grant the permit holder priority to file a license application during the permit term. A preliminary permit does not authorize the permit holder to perform any land disturbing activities or otherwise enter upon lands or waters owned by others without the owners' express permission.

The proposed project would consist of the following: (1) A proposed 25-foot-high, 400-foot-long earth-and-rock fill embankment closure dike across a narrow channel of South Bight; (2) a proposed 4,500-acre-foot reservoir formed by the South Bight closure dike and having a surface area of 330 acres; (3) a proposed inlet structure on the South Bight closure dike with a hydraulic capacity of about 9,000 cubic feet per second (cfs); (4) a proposed 80-foot-high, 4,000-foot-long earth-and-rock fill embankment closure dike across North Bight; (5) a proposed 4,500-acre-foot reservoir formed by the North Bight closure dike and having a surface area of 500 acres; (6) a proposed outlet structure on North Bight closure dike with a hydraulic capacity of 8,000 cfs; (7) a proposed powerhouse with one generating unit; (8) a proposed 10-mile-long, 12.5-kilovolt transmission line connecting the powerhouse to the Inland Passage Electric Company's electrical system in Hoonah; (9) proposed construction of about 3 miles of project access roads; and (10) appurtenant facilities. The proposed project would have an installed capacity of 400 kilowatts and an estimated average annual generation of about 2,700 megawatt-hours. The proposed project would occupy about 112 acres of federal lands managed by the Tongass National Forest.

Applicant Contact: Mr. Robert S. Grimm, President, Alaska Power & Telephone Co., P.O. Box 3222, Port Townsend, WA 98368; Ph. (360) 385-1733 ext. 120.

FERC Contact: Nick Jayjack, 202-502-6073.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's website under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13512) in the docket number field to access the document. For assistance, call toll-free 1-866-208-3372.

Kimberly D. Bose,
Secretary.

[FR Doc. E9-22094 Filed 9-14-09; 8:45 am]

BILLING CODE 6717-01-P